DEPARTMENT OF EDUCATION

Reopening; Application for Selection as a Performance Partnership Pilot; Performance Partnership Pilots for Disconnected Youth (P3)

AGENCY: Office of Career, Technical, and Adult Education, Department of Education.

ACTION: Notice.

SUMMARY: On August 8, 2022, the Department of Education (Department) published in the Federal Register a notice inviting applications (NIA) for selection as a performance partnership pilot for fiscal year (FY) 2022 under the Performance Partnership Pilots for Disconnected Youth (P3) authority. The NIA established a deadline date of October 7, 2022, for transmittal of applications. For eligible applicants that are affected applicants (as defined in Eligibility below) located in Puerto Rico, portions of Alaska with declared disaster designations caused by ex-Typhoon Merbok, and areas covered by a Presidential major disaster or emergency declaration resulting from Hurricane Ian, which includes Florida, the Seminole Tribe of Florida, North Carolina, and South Carolina, this notice reopens this competition to allow more time for the preparation and submission of applications by eligible applicants. The Department also extends the deadline for intergovernmental review until December 21, 2022.

DATES:

Deadline for Transmittal of Applications for Affected Applicants: October 21, 2022.

Deadline for Intergovernmental Review: December 21, 2022.

FOR FURTHER INFORMATION CONTACT: Braden Goetz, U.S. Department of Education, 400 Maryland Avenue SW, Room 10401, Potomac Center Plaza, Washington, DC 20202. Telephone: (202) 245-7405. Email: DisconnectedYouth@ed.gov. Or Corinne Sauri, U.S. Department of Education, 400 Maryland Avenue SW, Room 10362, Potomac Center Plaza, Washington, DC 20202. Telephone: (202) 245-6412.

If you are deaf, hard of hearing, or have a speech disability and wish to access telecommunications relay services, please dial 7-1-1.

SUPPLEMENTARY INFORMATION: On August 8, 2022, we published the NIA for selection as a performance partnership pilot for fiscal year (FY) 2022 under the Performance Partnership Pilots for Disconnected Youth (P3) authority in the Federal Register (87 FR 48168). Under the NIA, applications are due on October 7, 2022. We are reopening this competition for affected applicants, which are applicants from: Puerto Rico due to a declared disaster caused by Hurricane Fiona (https://www.fema.gov/disaster/4671); the portions of Alaska with declared disaster designations caused by ex-Typhoon Merbok (https://www.fema.gov/disaster/4672); and areas under a Presidential major disaster or emergency declaration resulting from Hurricane Ian, which include Florida (https://www.fema.gov/disaster/4673), the Seminole Tribe of Florida (https://www.fema.gov/disaster/4675), North Carolina (https://www.fema.gov/disaster/3586), and South Carolina (https://www.fema.gov/disaster/3585) in order to allow applicants from these jurisdictions more time to prepare and submit their applications.

Eligibility: The reopening of this competition applies to eligible applicants under the P3 authority that are affected applicants. An eligible applicant for this competition is defined in the NIA. To qualify as an affected applicant, the applicant must have a mailing address that is located in one of the areas listed below and must provide appropriate supporting documentation, if requested.

The affected areas are those in which assistance to individuals or public assistance has been authorized under the following FEMA declarations:

• Puerto Rico (https://www.fema.gov/disaster/4671);

• Portions of Alaska covered by a Presidential major disaster declaration (https://www.fema.gov/disaster/4672);

• Florida (https://www.fema.gov/disaster/4673);

• The Seminole Tribe of Florida (https://www.fema.gov/disaster/4675);

• North Carolina (https://www.fema.gov/disaster/3586); and • South Carolina (https://www.fema.gov/disaster/3585.

Affected applicants that have already timely submitted applications under FY 2022 P3 authority competition may submit a new application on or before the new application deadline of October 21, 2022, but they are not required to do so. If a new application is not submitted, the Department will use the application that was submitted by the original deadline. If a new application is submitted, the Department will consider the application that is last submitted and timely received by 11:59:59 p.m., eastern time, on October 21, 2022. Any application submitted by an affected applicant under the reopened deadline must contain evidence (e.g., the applicant organization mailing address) that the applicant is located in one of the applicable areas and, if requested, must provide appropriate supporting documentation.

The application period is not reopened for all applicants. Applications from applicants that are not affected, as defined above, will not be accepted past the original October 7, 2022 deadline.

Note: All information in the notice inviting applications remains the same, except for the deadline date for affected applicants and the deadline for intergovernmental review.

Program Authority: Section 523 of title III, division H of the Consolidated Appropriations Act, 2022 (Pub. L. 117-103).

Accessible Format: On request to one of the contact persons listed under FOR FURTHER INFORMATION CONTACT, individuals with disabilities can obtain this notice, the NIA and a copy of the application package in an accessible format. The Department will provide the requestor with an accessible format that may include Rich Text Format (RTF) or text format (txt), a thumb drive, an MP3 file, braille, large print, audiotape, or compact disc or any other format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Amy Loyd,
Assistant Secretary for Career, Technical, and Adult Education.

[FR Doc. 2022-22636 Filed 10-17-22; 8:45 am]

BILLING CODE 4000-01-P